DEPARTMENT OF TRANSPORTATION

Federal Aviation Administration

14 CFR Part 39

[Docket No. FAA-2023-1498; Project Identifier MCAI-2023-00459-T; Amendment 39-22643; AD 2023-25-16]

RIN 2120-AA64

Airworthiness Directives; Airbus SAS Airplanes

AGENCY: Federal Aviation Administration (FAA), DOT.

ACTION: Final rule.

SUMMARY: The FAA is adopting a new airworthiness directive (AD) for certain Airbus SAS Model A330-200, A330-200 Freighter, A330-300, A330-800, and A330-900 series airplanes. This AD was prompted by a determination that part of a certain production ground test procedure used to confirm inner fuel tank integrity was not accomplished properly on certain airplanes. This AD requires a fuel tank leak test and, depending on findings, accomplishment of applicable corrective action, as specified in a European Union Aviation Safety Agency (EASA) AD, which is incorporated by reference. The FAA is issuing this AD to address the unsafe condition on these products.

DATES: This AD is effective February 27, 2024.

The Director of the Federal Register approved the incorporation by reference of certain publications listed in this AD as of February 27, 2024.

ADDRESSES:

AD Docket: You may examine the AD docket at regulations.gov under Docket No. FAA-2023-1498; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material incorporated by reference in this AD, contact EASA, Konrad-Adenauer-Ufer 3, 50668 Cologne, Germany; telephone +49 221 8999 000; email ADs@easa.europa.eu; website easa.europa.eu. You may find this material on the EASA website at ad.easa.europa.eu.

• For Airbus SAS service information identified in this AD, contact Airbus SAS, Airworthiness Office—EAL, Rond-Point Emile Dewoitine No: 2, 31700 Blagnac Cedex, France; telephone +33 5 61 93 36 96; fax +33 5 61 93 45 80; email airworthiness.A330-A340@airbus.com; website airbus.com.

• You may view this material at the FAA, Airworthiness Products Section, Operational Safety Branch, 2200 South 216th St., Des Moines, WA. For information on the availability of this material at the FAA, call 206-231-3195. It is also available in the AD docket at regulations.gov under Docket No. FAA-2023-1498.

FOR FURTHER INFORMATION CONTACT: Vladimir Ulyanov, Aviation Safety Engineer, FAA, 1600 Stewart Avenue, Suite 410, Westbury, NY 11590; phone: 206-231-3229; email: Vladimir.Ulyanov@faa.gov.

SUPPLEMENTARY INFORMATION:

Background

The FAA issued a notice of proposed rulemaking (NPRM) to amend 14 CFR part 39 by adding an AD that would apply to certain Airbus SAS Model A330-200, A330-200 Freighter, A330-300, A330-800, and A330-900 series airplanes. The NPRM published in the Federal Register on July 20, 2023 (88 FR 46699). The NPRM was prompted by AD 2023-0052, dated March 14, 2023, issued by EASA, which is the Technical Agent for the Member States of the European Union (EASA AD 2023-0052) (also referred to as the MCAI). The MCAI states that a determination has been made that the differential pressure test across Rib 3, part of the production ground test procedure used to confirm inner fuel tank integrity, was not properly accomplished on airplanes delivered before July 2021.

In the NPRM, the FAA proposed to require a fuel tank leak test and, depending on findings, accomplishment of applicable corrective action, as specified in EASA AD 2023-0052. The FAA is issuing this AD to address lack of inner fuel tank integrity that, in the case of an uncontained engine rotor failure and subsequent fuel tank puncture, could lead to insufficient fuel available to ensure continued safe flight and landing.

You may examine the MCAI in the AD docket at regulations.gov under Docket No. FAA-2023-1498.

Discussion of Final Airworthiness Directive

Comments

The FAA received a comment from Air Line Pilots Association, International, who supported the NPRM without change.

The FAA received an additional comment from Delta Air Lines (DAL). The following presents the comment received on the NPRM and the FAA's response.

Request To Correct Service Bulletin Errors

DAL requested that two discrepancies in the service information be corrected. DAL noted that the reference to “R(L) INNER TK” should be changed to “L(R) INNER TK,” and there is a discrepancy in the range of possible capacitance values for inner tank probe 6. DAL asserted that these errors make it impossible for the required actions to be accomplished.

The FAA agrees. Paragraph (h)(4) has been added to this AD to change the reference to “L(R) INNER TK.” Paragraph (h)(5) has been added to this AD to remove the requirement to measure the capacitance values for inner tank probe 6 FIN 24QT1 (FIN 24QT2). Airbus has advised that these errors will be corrected in a future revision.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

EASA AD 2023-0052 specifies procedures for performing a leak test of the inner fuel tanks for discrepancies (i.e., leaks; a leak test is failed if, during a secondary recording of capacitance values, the aft inner tank probe FIN 25QT1(FIN 25QT2) and FIN 123QT1(FIN 123QT2) values reduce by 2pF when compared with those in the initial recording) and, depending on findings, accomplishing applicable corrective action. Corrective actions include performing the applicable fault isolation and rectification.

Airbus Service Bulletin A330-28-3141, dated December 16, 2022, specifies serial numbers of affected airplanes.

This material is reasonably available because the interested parties have access to it through their normal course of business or by the means identified in the ADDRESSES section.

Costs of Compliance

The FAA estimates that this AD affects 128 airplanes of U.S. registry. The FAA estimates the following costs to comply with this AD:

Estimated Costs for Required Actions
Labor cost | Parts cost | Cost per product | Cost on U.S. operators
4 work-hours × $85 per hour = $340 | $0 | $340 | $43,520

The FAA has received no definitive data on which to base the cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-25-16 Airbus SAS: Amendment 39-22643; Docket No. FAA-2023-1498; Project Identifier MCAI-2023-00459-T.

(a) Effective Date

This airworthiness directive (AD) is effective February 27, 2024.

(b) Affected ADs

None.

(c) Applicability

This AD applies to Airbus SAS airplanes, certificated in any category, specified in paragraphs (c)(1) through (5) of this AD, and with serial numbers identified in Airbus Service Bulletin A330-28-3141, dated December 16, 2022.

(1) Model A330-201, -202, -203, -223, and -243 airplanes.

(2) Model A330-223F and -243F airplanes.

(3) Model A330-301, -302, -303, -321, -322, -323, -341, -342, and -343 airplanes.

(4) Model A330-841 airplanes.

(5) Model A330-941 airplanes.

(d) Subject

Air Transport Association (ATA) of America Code 28, Fuel.

(e) Unsafe Condition

This AD was prompted by a determination that the differential pressure test across Rib 3, part of the production ground test procedure used to confirm inner fuel tank integrity, had not been properly accomplished on airplanes delivered before July 2021. The FAA is issuing this AD to address lack of inner fuel tank integrity that, in the case of an uncontained engine rotor failure and subsequent fuel tank puncture, could lead to insufficient fuel available to ensure continued safe flight and landing.

(f) Compliance

Comply with this AD within the compliance times specified, unless already done.

(g) Requirements

Except as specified in paragraph (h) of this AD: Comply with all required actions and compliance times specified in, and in accordance with, European Union Aviation Safety Agency (EASA) AD 2023-0052, dated March 14, 2023 (EASA AD 2023-0052).

(h) Exceptions to EASA AD 2023-0052

(1) Where EASA AD 2023-0052 refers to its effective date, this AD requires using the effective date of this AD.

(2) This AD does not adopt the “Remarks” section of EASA AD 2023-0052.

(3) Where the service information referenced in EASA AD 2023-0052 specifies repeating a step and recording certain values, replace the text “Do step 1 b again and record the capacitance values and then every 10 minutes for 60 min,” with “Repeat step 1 b and record the capacitance values every 10 minutes for 60 minutes.”

(4) Where the service information referenced in EASA AD 2023-0052 specifies “Set the R(L) INNER TK (FIN 6QU1)(FIN 6QU2) switch to OPEN,” this AD requires replacing that text with “Set the L(R) INNER TK (FIN 6QU1)(FIN 6QU2) switch to OPEN.”

(5) Where the service information referenced in EASA AD 2023-0052 specifies measuring certain capacitance values, this AD does not require measuring the capacitance values for inner tank probe 6 FIN 24QT1 (FIN 24QT2).

(i) No Reporting Requirement

Although the service information referenced in EASA AD 2023-0052 specifies to submit certain information to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraph (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Vladimir Ulyanov, Aviation Safety Engineer, FAA, 1600 Stewart Avenue, Suite 410, Westbury, NY 11590; phone: 206-231-3229; email: Vladimir.Ulyanov@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A330-28-3141, dated December 16, 2022.

(ii) European Union Aviation Safety Agency (EASA) AD 2023-0052, dated March 14, 2023.

(3) For EASA AD 2023-0052, contact EASA, Konrad-Adenauer-Ufer 3, 50668 Cologne, Germany; telephone +49 221 8999 000; email ADs@easa.europa.eu; website easa.europa.eu. You may find this EASA AD on the EASA website at ad.easa.europa.eu.

(4) For Airbus service information identified in this AD, contact Airbus SAS, Airworthiness Office—EAL, Rond-Point Emile Dewoitine No: 2, 31700 Blagnac Cedex, France; telephone +33 5 61 93 36 96; fax +33 5 61 93 45 80; email airworthiness.A330-A340@airbus.com; website airbus.com.

(5) You may view this service information at the FAA, Airworthiness Products Section, Operational Safety Branch, 2200 South 216th St., Des Moines, WA. For information on the availability of this material at the FAA, call 206-231-3195.

(6) You may view this service information at the National Archives and Records Administration (NARA). For information on the availability of this material at NARA, visit www.archives.gov/federal-register/cfr/ibr-locations or email fr.inspection@nara.gov.

Issued on December 18, 2023.
Victor Wicklund,
Deputy Director, Compliance & Airworthiness Division, Aircraft Certification Service.

[FR Doc. 2024-01169 Filed 1-22-24; 8:45 am]

BILLING CODE 4910-13-P